DEPARTMENT OF COMMERCE

National Oceanic and Atmospheric Administration

Availability of Seats for the Monterey Bay National Marine Sanctuary Advisory Council

AGENCY: National Marine Sanctuary Program (NMSP), National Ocean Service (NOS), National Oceanic and Atmospheric Administration, Department of Commerce (DOC).

ACTION: Notice and request for applications.

SUMMARY: The Monterey Bay National Marine Sanctuary (MBNMS or Sanctuary) is seeking applicants for the following nine vacant seats on its Sanctuary Advisory Council (Council): Agriculture, At-Large (3 seats), Business/Industry, Fishing, Recreation, Research, and Tourism. Applicants are chosen based upon their particular expertise and experience in relation to the seat for which they are applying; community and professional affiliations; philosophy regarding the conservation and management of marine resources; and the length of residence in the area affected by the Sanctuary. Applicants who are chosen as members should expect to serve three-year terms, pursuant to the Council's Charter.

DATES: Applications are due by October 30, 2000.

ADDRESSES: Application kits may be obtained by from Brady Phillips at the Monterey Bay National Marine Sanctuary, 299 Foam Street, Monterey, California, 93940. Completed applications should be sent to the same address.

FOR FURTHER INFORMATION CONTACT: Brady Phillips at (831) 647-4237, or Brady.Phillips@noaa.gov.

SUPPLEMENTARY INFORMATION: The MBNMS Advisory Council was established in March 1994 (the current Council has served since March 1998) to assure continued public participation in the management of the Sanctuary. Since its establishment, the Council has played a vital role in the decisions affecting the Sanctuary along the central California coast.

The Council's nineteen voting members represent a variety of local user groups, as well as the general public, plus seven local, state and federal governmental jurisdictions. In addition, the respective managers for the four California National Marine Sanctuaries (Channel Islands National Marine Sanctuary, Cordell Bank National Marine Sanctuary, Gulf of the Farallones National Marine Sanctuary, and the Monterey Bay National Marine Sanctuary) and the Elkhorn Slough National Estuarine Research Reserve site as non-voting members.

The Council is supported by three working groups: the Research Activity Panel (RAP) chaired by the Research Representative, the Sanctuary Education Panel (SEP) chaired by the Education Representative, and the Conservation Working Group (CWG) chaired by the Conservation Representative, each respectively dealing with matters concerning research, education and resource protection. The working groups are composed of experts from the appropriate fields of interest and all meet monthly, serving as invaluable advisors to the Council and the Sanctuary Superintendent. Several task forces have been established to assist in developing specific programmatic goals. Most notable is the formation of the Business and Tourism Activity Panel (BTAP), whose purpose is to strengthen economic partnerships with the Sanctuary Program.

The Council represents the coordination link between the Sanctuary and the state and federal management agencies, user groups, researchers, educators, policy makers, and other various groups that help to focus efforts and attention on the central California coastal and marine ecosystems.

The Council functions in an advisory capacity to the Sanctuary Superintendent and is instrumental in helping to develop policies and program goals, and to identify education, outreach, research, long-term monitoring, resource protection and revenue enhancement priorities. The Council works in concert with the Sanctuary Superintendent by keeping him or her informed about issues of concern throughout the Sanctuary, offering recommendations on specific issues, and aiding the Superintendent in achieving the goals of the Sanctuary program within the context of California's marine programs and policies.

Authority: 16 U.S.C. Section 1431 et seq.

(Federal Domestic Assistance Catalog Number 11.429 Marine Sanctuary Program)
Dated: September 18, 2000.
Margaret A. Davidson,
Acting Assistant Administrator for Oceans and Coastal Zone Management.

[FR Doc. 00-24281 Filed 9-20-00; 8:45 am]

BILLING CODE 3510-08-M